DEPARTMENT OF AGRICULTURE

Forest Service

Rogue-Umpqua Resource Advisory Committee

AGENCY: Forest Service, USDA.

ACTION: Notice of meeting.

SUMMARY: The Rogue-Umpqua Resource Advisory Committee will meet in Roseburg, Oregon. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 18, 2012, 8:30 a.m., and Sept. 19, 2012, 8:30 a.m.

ADDRESSES: The meeting will be held at the Supervisor's Office of the Umpqua National Forest, 2900 NW Stewart Parkway, Roseburg, Oregon, in the Diamond Lake Conference Room.

Written comments may be submitted as described under Supplementary Information. All comments, including names and addresses when provided, are placed in the record and are available for public inspection and copying. The public may inspect comments received at the Supervisor's Office for the Umpqua National Forest. Please call ahead to 541-957-3200 to facilitate entry into the building to view comments.

FOR FURTHER INFORMATION CONTACT: Cheryl Caplan, Public Affairs Officer, Umpqua National Forest, 541-957-3270, ccaplan@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Approval of agenda and minutes, public forum opportunity, election of chair, review of fiscal years 2009 through 2012 projects, and review and recommendation of individual fiscal year 2013 Title II project nominations. The agenda is available at https://fsplaces.fs.fed.us/fsfiles/unit/wo/secure_rural_schools.nsf/RAC/Rogue+%26+Umpqua?OpenDocument. Anyone who would like to bring related matters to the attention of the committee may file written statements with the committee staff before or after the meeting. The agenda will include time for people to make oral statements of three minutes or less. Individuals wishing to make an oral statement should request in writing by September 17 to be scheduled on the agenda. Written comments and requests for time for oral comments must be sent to Umpqua National Forest ATTN: Cheryl Caplan, 2900 NW Stewart Parkway, Roseburg, OR 97471, or by email to ccaplan@fs.fed.us, or via facsimile to 541-957-3495.

A summary of the meeting will be posted at https://fsplaces.fs.fed.us/fsfiles/unit/wo/secure_rural_schools.nsf/RAC/Rogue+%26+Umpqua?OpenDocument within 21 days of the meeting.

Meeting Accommodations: If you are a person requiring reasonable accommodation, please make requests in advance for sign language interpreting, assistive listening devices or other reasonable accommodation for access to the facility or proceedings by contacting the person listed under For Further Information Contact. All reasonable accommodation requests are managed on a case-by-case basis.

Dated: August 14, 2012.
Cheryl Caplan,
Acting Umpqua Forest Supervisor.

[FR Doc. 2012-20468 Filed 8-20-12; 8:45 am]

BILLING CODE 3410-11-P